DEPARTMENT OF DEFENSE

Office of the Secretary

[Transmittal No. 22-42]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-42 with attached Policy Justification and Sensitivity of Technology.

Dated: June 2, 2024.
Aaron T. Siegel,
Alternate OSD Federal Register Liaison Officer, Department of Defense.

BILLING CODE 6001-FR-P

BILLING CODE 6001-FR-C

Transmittal No. 22-42

Notice of Proposed Issuance of Letter of Offer Pursuant to Section 36(b)(1) of the Arms Export Control Act, as amended

(i) Prospective Purchaser: Government of Norway

(ii) Total Estimated Value:

Major Defense Equipment * | $800 million
Other | $150 million
TOTAL | $950 million

Funding Source: National Funds

(iii) Description and Quantity or Quantities of Articles or Services under Consideration for Purchase:

Major Defense Equipment (MDE):

Two hundred five (205) AIM-120 D-series Advanced Medium-Range Air-to-Air Missiles (AMRAAMs)

Sixty (60) AIM-120 C-8 or D-series AMRAAMs

Four (4) AIM-120D AMRAAM Guidance Sections

Non-MDE:

Also included are AIM-120 Control Sections, Captive Air Training Missiles, (CATMs) and missile containers; weapon system support equipment; integration support and test equipment; transportation; repair and return support and equipment; warranties; classified and unclassified software delivery and support; spare and repair parts, consumables, and accessories; publications and technical documentation; maintenance and maintenance support; personnel training and training equipment; U.S. Government and contractor engineering, technical and logistics support services, studies and surveys; and other related elements of logistical and program support.

(iv) Military Department: Air Force (NO-D-YAE, NO-D-YAG)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: July 15, 2022

* As defined in Section 47(6) of the Arms Export Control Act.

POLICY JUSTIFICATION

Norway—AIM-120 C-8 or D Advanced Medium-Range Air-to-Air Missiles

The Government of Norway has requested to buy two hundred five (205) AIM-120 D-series Advanced Medium-Range Air-to-Air Missiles (AMRAAMs); sixty (60) AIM-120 C-8 or D-series AMRAAMs; and four (4) AIM-120D AMRAAM Guidance Sections. Also included are AIM-120 Control Sections, CATMs, and missile containers; weapon system support equipment; integration support and test equipment; transportation; repair and return support and equipment; warranties; classified and unclassified software delivery and support; spare and repair parts, consumables, and accessories; publications and technical documentation; maintenance and maintenance support; personnel training and training equipment; U.S. Government and contractor engineering, technical and logistics support services, studies and surveys; and other related elements of logistical and program support. The estimated total cost is $950 million.

This proposed sale will support the foreign policy goals and national security objectives of the United States by improving the security of a North Atlantic Treaty Organization (NATO) ally that is an important force for political stability and economic progress in Europe.

The proposed sale will improve Norway's capability to meet current and future threats by providing advanced air-to-air capability for its F-35A fleet, enabling it to fulfill NATO missions and meet U.S. European Command's goal of combined air operations interoperability and standardization between Norwegian and U.S. forces. Norway will have no difficulty absorbing these weapons into its armed forces.

The proposed sale of this equipment and support will not alter the basic military balance in the region.

The principal contractor will be Raytheon Missile Systems Company, Tucson, Arizona. There are no known offset agreements proposed in connection with this potential sale.

Implementation of this proposed sale will not require the assignment of any additional U.S. Government or contractor representatives to Norway.

There will be no adverse impact on U.S. defense readiness as a result of this proposed sale.

Transmittal No. 22-42

Notice of Proposed Issuance of Letter of Offer Pursuant to Section 36(b)(1) of the Arms Export Control Act

Annex

Item No. vii

(vii) Sensitivity of Technology:

1. The AIM-120C-8 and D-series AMRAAM are supersonic, air-launched, aerial intercept, guided missiles featuring digital technology and micro-miniature solid-state electronics. AMRAAM capabilities include look-down/shoot-down, multiple launches against multiple targets, resistance to electronic countermeasures, and interception of high- and low-flying and maneuvering targets. State-of-the-art technology is used in the missile to provide it with beyond-visual-range capability.

a. The increase in capability from the AIM-120C-8 to AIM-120D consists of a two-way data link, a more accurate navigation unit with Global Positioning System updates, improved high-off boresight capability, and enhanced aircraft-to-missile position handoff.

b. The AIM-120D features a quadrangle target detection device and an electronics unit within the guidance section that performs all radar signal processing, mid-course and terminal guidance, flight control, target detection, and warhead detonation. The AIM-120D-3 is a form, fit, function refresh of the AIM-120D and is the next generation to be produced.

c. The potential sale will include Captive Air Training Missiles and AMRAAM Guidance Section spares. It is the AMRAAM's advanced guidance section and mature seeker design that allow it to find targets quickly in the most challenging environments.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Norway can provide substantially the same degree of protection for the sensitive technology being released as the U.S. Government. This proposed sale is necessary in furtherance of the U.S. foreign policy and national security objectives outlined in the Policy Justification.

5. All defense articles and services listed in this transmittal have been authorized for release and export to the Government of Norway.

[FR Doc. 2024-12392 Filed 6-5-24; 8:45 am]

BILLING CODE 6001-FR-P